DEPARTMENT OF ENERGY

Federal Energy Regulatory Commission

Notice of Application Ready for Environmental Analysis and Soliciting Comments, Recommendations, Terms and Conditions, and Prescriptions

August 9, 2001.

Take notice that the following hydroelectric application has been filed with the Commission and is available for public inspection.

a. Type of Application: New Minor License.

b. Project No.: 3516-008.

c. Date Filed: October 3, 2000.

d. Applicant: City of Hart, Michigan.

e. Name of Project: Hart Hydroelectric Project.

f. Location: On the South Branch of the Pentwater River, in Oceana County, near Hart, Michigan. The project does not affect federal lands.

g. Filed Pursuant to: Federal Power Act 16 U.S.C. 791 (a)-825(r).

h. Applicant Contact: Reid S. Charles II, City Manager, City of Hart, 407 State Street, Hart, Michigan 49420, (231) 873-2488.

i. FERC Contact: Steve Kartalia, (202) 219-2942 or stephen.kartalia@FERC.fed.us.

j. Deadline for filing comments, recommendations, terms and conditions, and prescriptions: 60 days from the issuance of this notice.

All documents (original and eight copies) should be filed with: David P. Boergers, Secretary, Federal Energy Regulatory Commission, 888 First Street, NE, Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. See 18 CFR 385.2001(a)(1)(iii) and the instructions on the Commission's web site (http://www.ferc.gov) under the “e-Filing” link.

k. This application has been accepted, and is ready for environmental analysis at this time.

l. The existing Hart Hydroelectric Project consists of: (1) A 580-foot-long earthen dam; (2) a 40-foot-long concrete-lined spillway; (3) a 240-acre reservoir; (4) a powerhouse containing 2 S. Morgan Smith vertical shaft turbines and 2 generators, with a total hydraulic capacity of 135 cubic feet per second and an installed generating capacity of 320 kilowatts; (5) a 1-mile-long transmission line that connects the project with the Hart Diesel Plant; and (5) appurtenant facilities. The applicant estimates that the total average annual generation is between 350,000 and 400,000 kilowatthours. The project operates in a run-of-river mode and all generated power is distributed to customers of the City of Hart Electric Department via the City's transmission and distribution system.

m. A copy of the application is on file with the Commission and is available for public inspection. This filing may also be viewed on the web at http://www.ferc.gov using the “RIMS” link—select “Docket #” and follow the instructions (call 202-208-2222 for assistance). A copy is also available for inspection and reproduction at the address in item h above.

n. The Commission directs, pursuant to Section 4.34(b) of the Regulations (see Order No. 533 issued May 8, 1991, 56 FR 23108, May 20, 1991) that all comments, recommendations, terms and conditions and prescriptions concerning the application be filed with the Commission within 60 days from the issuance date of this notice. All reply comments must be filed with the Commission within 105 days from the date of this notice.

Anyone may obtain an extension of time for these deadlines from the Commission only upon a showing of good cause or extraordinary circumstances in accordance with 18 CFR 385.2008.

All filings must (1) bear in all capital letters the title “COMMENTS”, “REPLY COMMENTS”, “RECOMMENDATIONS,” “TERMS AND CONDITIONS,” or “PRESCRIPTIONS”; (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

Linwood A. Watson, Jr.,
Acting Secretary.

[FR Doc. 01-20459 Filed 8-14-01; 8:45 am]

BILLING CODE 6717-01-P